NATIONAL SCIENCE FOUNDATION

Sunshine Act Meetings

The National Science Board's Committee on Oversight hereby gives notice of the scheduling of a teleconference for the transaction of National Science Board business pursuant to the NSF Act and the Government in the Sunshine Act.

TIME AND DATE: Wednesday, October 18, 2023, from 10:30-11:30 a.m. EDT.

PLACE: This meeting will be via videoconference through the National Science Foundation, 2415 Eisenhower Avenue, Alexandria, VA 22314.

STATUS: Closed.

MATTERS TO BE CONSIDERED: The agenda is: Committee Chair's opening remarks regarding the agenda; Presentation and discussion of the Results of NSF Pilots to Improve Reviewer Training.

CONTACT PERSON FOR MORE INFORMATION: Point of contact for this meeting is: Chris Blair, cblair@nsf.gov, 703-292-7000. Meeting information and updates may be found at www.nsf.gov/nsb.

Christopher Blair,
Executive Assistant to the National Science Board Office.

[FR Doc. 2023-22911 Filed 10-12-23; 4:15 pm]

BILLING CODE 7555-01-P